DEPARTMENT OF ENERGY

Federal Energy Regulatory Commission

[Docket No. EL13-88-000]

Northern Indiana Public Service Company v. Midcontinent Independent System Operator, Inc. PJM Interconnection, L.L.C.; Notice of Technical Conference

On September 11, 2013, Northern Indiana Public Service Company (NIPSCO) filed a complaint against Midcontinent Independent System Operator, Inc. (MISO) and PJM Interconnection, L.L.C. (PJM). NIPSCO requested that the Commission order MISO and PJM to reform the interregional transmission planning process of the Joint Operating Agreement between MISO and PJM (MISO-PJM JOA).¹ On December 18, 2014, the Commission issued an order directing Commission staff to convene a technical conference to explore issues raised in the NIPSCO Complaint related to the MISO-PJM JOA and the MISO-PJM seam.² Take notice that such conference will be held on June 15, 2015, at the Commission's headquarters at 888 First Street NE., Washington, DC 20426, between 9:00 a.m. and 4:00 p.m. (Eastern Time) in the Commission Meeting Room. The technical conference will be led by Commission staff and may be attended by one or more Commissioners.

¹ NIPSCO Complaint, Docket No. EL13-88-000 (filed Sept. 11, 2013).

² Northern Indiana Public Service Co. v. Midcontinent Indep. Sys. Operator, Inc. and PJM Interconnection, L.L.C., 149 FERC ¶ 61,248, at P 35 (2014).

The technical conference will not be transcribed. However, there will be a free webcast of the conference. The webcast will allow persons to listen to the technical conference, but not participate. Anyone with Internet access who wants to listen to the conference can do so by navigating to the Calendar of Events at www.ferc.gov and locating the technical conference in the Calendar. The technical conference will contain a link to its webcast. The Capitol Connection provides technical support for the webcast and offers the option of listening to the meeting via phone-bridge for a fee. If you have any questions, visit www.CapitolConnection.org or call 703-993-3100.³

³ The webcast will continue to be available on the Calendar of Events on the Commission's Web site www.ferc.gov for three months after the conference.

Advance registration is required for all attendees. Attendees may register in advance at the following Web page: https://www.ferc.gov/whats-new/registration/06-15-15-form.asp. Attendees should allow time to pass through building security procedures before the 9:00 a.m. (Eastern Time) start time of the technical conference. In addition, information on this event will be posted on the Calendar of Events on the Commission's Web site, www.ferc.gov, prior to the event.

Those wishing to be panelists in the program for this event should nominate themselves through the on-line registration form no later than close of business May 18, 2015 at the following Web page, https://www.ferc.gov/whats-new/registration/06-15-15-speaker-form.asp. At this Web page, please identify the name(s) of the person(s) wishing to be a panelist and which issue(s) below you wish to discuss. Panelists will be selected to ensure relevant topics and to accommodate time constraints. Other attendees may ask questions or make comments as time permits.

Commission conferences are accessible under section 508 of the Rehabilitation Act of 1973. For accessibility accommodations please send an email to accessibility@ferc.gov or call toll free 1-866-208-3372 (voice) or 202-502 -8659 (TTY); or send a fax to 202-208-2106 with the required accommodations.

The technical conference will consist of five sessions and focus on the issues raised by NIPSCO in the Complaint, as detailed below. The times given below are approximate and may change, as needed. As time permits, at the end of each session staff will open the floor for questions and comments from attendees.

Conference Introduction: Commission Staff (9:00 a.m.-9:15 a.m.)

Session 1: Transmission Planning Cycles (9:15 a.m.-10:15 a.m.)

Panelists should be prepared to discuss the issue of whether the Commission should require the MISO-PJM cross-border transmission planning process to run concurrently with the MISO and PJM regional transmission planning cycles, rather than after those regional transmission planning cycles, and to answer questions including, but not limited to, the following: How could MISO and PJM modify their regional transmission planning cycles to better align with the MISO-PJM cross-border transmission planning process? What impact would this have on other regional and interregional transmission planning cycles (i.e., neighboring regions)? Should MISO and PJM use the same planning deadlines to achieve regional benefits from coordination of the cross-border transmission planning process? Discussion of these issues should focus on the MISO-PJM seam in general, and NIPSCO's location on the seam in particular.

Session 2: Modeling and Criteria (10:15 a.m.-11:15 a.m.)

Panelists should be prepared to describe the existing joint interregional transmission planning model used to evaluate cross-border transmission projects and to answer questions including, but not limited to, the following: Are changes needed to this existing model or the assumptions used to enable coordinated study of proposed cross-border transmission projects? Should the Commission require MISO and PJM to use a single common set of criteria to evaluate cross-border transmission projects as proposed by NIPSCO in the Complaint? In addition to the benefit metric, what other metrics do PJM and MISO consider in the evaluation of cross-border transmission projects? Should the Commission require that there be consistency between PJM's and MISO's regional transmission planning analyses such that both entities are consistent in their application of reliability criteria and modeling assumptions as proposed by NIPSCO in the Complaint? Discussion of these issues should focus on the MISO-PJM seam in general, and NIPSCO's location on the seam in particular.

Lunch Break: (11:15 a.m.-12:15 p.m.)

Session 3: Market-to-Market Payments (12:15 p.m.-1:30 p.m.)

Panelists should be prepared to answer questions including, but not limited to, the following: Should the Commission require MISO and PJM to amend the criteria to evaluate cross-border market efficiency transmission projects to address all known benefits, including avoidance of future market-to-market payments made to reallocate short-term transmission capacity in the real-time operation of the system as proposed by NIPSCO in the Complaint? Have MISO, PJM, and the market monitors identified trends in market-to-market payments that may be relevant to NIPSCO's position along the PJM-MISO seam? Is there a relationship between the cross-border transmission planning process (and evaluation of potential interregional transmission projects) and persistent market-to-market payments being made between the RTOs? Are persistent market-to-market payments an indicator of the need for new transmission? Please provide examples of transmission projects that have been considered under the existing cross-border transmission planning process for the purpose of mitigating congestion and/or constraints that lead to persistent market-to-market payments but that have not been developed, and the reasons the transmission project was not developed.

Break: (1:30 p.m.-1:45 p.m.)

Session 4: Lower Voltage Transmission Projects (1:45 p.m.-2:45 p.m.)

Panelists should be prepared to discuss the issue of whether the Commission should require MISO and PJM to have a process for joint transmission planning and cost allocation of lower voltage and lower cost cross-border upgrades, as proposed by NIPSCO in the Complaint, and to answer questions including, but not limited to, the following: How would a lower voltage criteria align with current regional cost allocation methods? Are lower voltage transmission projects expected to provide region-wide or local benefits? Discussion of these issues should focus on the MISO-PJM seam in general, and NIPSCO's location on the seam in particular.

Session 5: Generator Interconnections and Retirements (2:45 p.m.-3:45 p.m.)

Panelists should be prepared to discuss the issue of whether the Commission should require MISO and PJM to improve the processes within the MISO-PJM JOA with respect to new generator interconnections and generation retirements, as proposed by NIPSCO in the Complaint, and to answer questions including, but not limited to, the following: What impact does the interconnection or retirement of external generation have on a neighboring region? How do MISO and PJM model new generation, or the retirement of existing generation, on a neighboring system? At what stage of the interconnection process do MISO and PJM share information or coordinate studies? How does the current process of studying external generation impact congestion? How do MISO and PJM share information about generator interconnections and retirements? What are the differences in timing between the two RTOs for sharing information about generator interconnections and retirements? Discussion of these issues should focus on the MISO-PJM seam in general, and NIPSCO's location on the seam in particular.

Conference Conclusion: Next Steps (3:45 p.m.—4:00 p.m.)

Following the technical conference, the Commission will consider post-technical conference comments submitted on or before July 15, 2015. Reply comments are due on or before August 5, 2015. The written comments will be included in the formal record of the proceeding, which, together with the record developed to date, will form the basis for further Commission action.

For more information about this technical conference, please contact Lina Naik, 202-502-8882, lina.naik@ferc.gov, regarding legal issues; or Jason Strong, 202-502-6124, jason.strong@ferc.gov, and Ben Foster, 202-502-6149, ben.foster@ferc.gov, regarding technical issues; or Sarah McKinley, 202-502-8368, sarah.mckinley@ferc.gov, regarding logistical issues.

Dated: May 5, 2015.
Kimberly D. Bose,
Secretary.

[FR Doc. 2015-11405 Filed 5-11-15; 8:45 a.m.]

BILLING CODE 6717-01-P